UNITED STATES INSTITUTE OF PEACE

Announcement of the Spring 2005 Solicited Grant Competition Grant Program

AGENCY: United States Institute of Peace.

ACTION: Notice.

SUMMARY: The Agency announces its upcoming Spring 2005 Solicited Grant Competition. The Solicited Grant competition is restricted to projects that fit specific themes and topics identified in advance by the Institute of Peace.

The themes and topics for the Spring 2005 Solicited competition are:

• Solicitation A: Promoting Sustainable Peace in Societies Emerging from Violent Conflict

• Solicitation B: Conflict and Peacemaking in the Muslim World

Deadline: March 1, 2005, Application Material Available on Request.

DATES: Receipt of Application: March 1, 2005. Notification Date: September 31, 2005.

ADDRESSES: For more information and an application package: United States Institute of Peace, Grant Program, Solicited Grants, 1200 17th Street, NW., Suite 200, Washington, DC 20036-3011, (202) 429-3842 (phone), (202) 833-1018 (fax), (202) 457-1719 (TTY), e-mail: grants@usip.org.

Application material available on-line: http://www.usip.org/grants.

FOR FURTHER INFORMATION CONTACT: The Grant Program, Phone (202) 429-3842, E-mail: grants@usip.org.

Dated: January 5, 2005.
Erin Singshinsuk,
Director, Office of Administration.

[FR Doc. 05-459 Filed 1-10-05; 8:45 am]

BILLING CODE 6820-AR-M